DEPARTMENT OF COMMERCE

National Oceanic and Atmospheric Administration

RIN 0648-XF163

North Pacific Fishery Management Council; Public Meeting

AGENCY: National Marine Fisheries Service (NMFS), National Oceanic and Atmospheric Administration (NOAA), Commerce.

ACTION: Notice of public meeting.

SUMMARY: The North Pacific Fishery Management Council's (Council) Scallop Plan Team will meet February 22, 2017.

DATES: The meeting will be held on Wednesday, February 22, 2017, from 9 a.m. to 5 p.m.

ADDRESSES: The meeting will be held at Fishermen's Hall, 403 Marine Way, Kodiak, AK 99615.

Council address: North Pacific Fishery Management Council, 605 W. 4th Ave., Suite 306, Anchorage, AK 99501-2252; telephone: (907) 271-2809.

FOR FURTHER INFORMATION CONTACT: Jim Armstrong, Council staff; telephone: (907) 271-2809.

SUPPLEMENTARY INFORMATION:

Agenda

Wednesday, February 22, 2017

The agenda includes updating the status of the Statewide Scallop Stocks and Stock Assessment and Fishery Evaluation (SAFE) compilation, update on monitoring ocean acidification and its potential effect on the scallop stocks, update on new scallop assessment programs and a review of research priorities. The Agenda is subject to change, and the latest version will be posted at http://www.npfmc.org/

Special Accommodations

The meeting is physically accessible to people with disabilities. Requests for sign language interpretation or other auxiliary aids should be directed to Shannon Gleason at (907) 271-2809 at least 7 working days prior to the meeting date.

Dated: January 11, 2017.
Jeffrey N. Lonergan,
Acting Deputy Director, Office of Sustainable Fisheries, National Marine Fisheries Service.

[FR Doc. 2017-00887 Filed 1-13-17; 8:45 am]

BILLING CODE 3510-22-P